DEPARTMENT OF LABOR

Veterans' Employment and Training Service

Agency Information Collection Activities; Comment Request: VETS' Competitive Grant Program Reporting

ACTION: Notice of availability; request for comments.

SUMMARY: VETS is announcing an opportunity for public comment on the proposed revision of certain information the agency collects from grant recipients. Under the Paperwork Reduction Act (PRA) of 1995, Federal agencies are required to publish a notice in the Federal Register concerning each proposed collection of information and to allow 60 days for public comment in response to the notice.

DATES: Consideration will be given to all written comments received February 21, 2023.

ADDRESSES: A copy of this Information Collection Request (ICR) with applicable supporting documentation, including a description of the likely respondents, proposed frequency of response, and estimated total burden, may be obtained for free by contacting Kate McCord by telephone at (503) 806-4241 (this is not a toll-free number) or by email at hvrp@dol.gov.

Submit written comments about this ICR to: hvrp@dol.gov. Include “HVRP 1293-0014 ICR Comments” in the subject line.

Electronic submission: You may submit comments and attachments electronically at DOL_PRA_PUBLIC@dol.gov, identified by OMB Control Number 1293-0014.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Kate McCord by telephone at (503) 806-4241 (this is not a toll-free number) or by email at hvrp@dol.gov. Include “HVRP 1293-0014 ICR Information” in the subject line.

SUPPLEMENTARY INFORMATION: The Department of Labor's VETS administers funds for the Homeless Veterans' Reintegration Program (HVRP) grant on an annual basis. These competitive grants are codified under 38 U.S.C. 2021, 2021A, and 2023.

VETS provides funds to grantees through annual Funding Opportunity Announcements and incremental funding throughout the grant's three-year (12 quarters) period of performance. The total number of grantees varies from year to year based on the amount of available funds, awarded in grants up to $500,000 each year or up to $1.5 million in total.

The Assistant Secretary for Veterans' Employment and Training monitors and supervises the distribution and use of those funds as required by 38 U.S.C. 2021 (b) and 38 U.S.C. 2021A. Additionally, and in accordance with 38 U.S.C. 2021 (e), the Secretary reviews performance and provides an annual report to Congress on the program, including an evaluation of the services furnished to veterans and an analysis of the information we have collected.

VETS is requesting continued approval for this information collection that streamlines the funding application process for applicants, reports the use of grantee funds in sufficient detail to allow interim adjustments that ensure all appropriated funding is expended properly, and provides data needed for VETS' Annual Report to Congress.

The forms and reports collect required programmatic and financial data from applicants and grantees. The continued use of standardized formats for collecting this information helps to ensure that requested data is provided in a uniform way, reporting burdens are minimized, the impact of collection requirements on respondents are properly assessed, collection instruments are clearly understood by respondents, and the information is easily consolidated for posting in accordance with statutory requirements.

VETS is proposing the following additions to the form collection:

• VETS-705 Past Performance Chart. VETS intends to add a new form to this collection, the VETS-705 Past Performance Chart, to provide a standardized template for grant applicants without a previous HVRP award to submit performance outcomes from completed projects.

VETS is proposing the following revisions to the forms:

• VETS-704 Applicant Synopsis/Abstract. VETS proposes to rename this form to “Abstract” to better align with the terminology used in the HVRP Funding Opportunity Announcement (FOA) definitions and terms.

• VETS-700 Planned Goals Chart. VETS has historically requested that applicants submit up to 24 planned goals and a list of service delivery area counties. VETS proposes removing the requirement to enter geographic location information and goals for participant subgroups, training, and expenditures, which results in 16 fewer measures on the form. The authoritative source for a grant's service delivery area is the VETS-704 Abstract form; requiring county-level details to be entered into the VETS-700 is unnecessary. VETS no longer needs goals for participant subgroups and expenditures as they are not relevant at the application stage and training subgoals are redundant as there is only one standard training goal and it is a single benchmark that applies to all grantees. In addition, the formatting of the VETS-700 Planned Goals Chart only supports data entry for the first four quarters of a performance measure. VETS recommends changing the formatting to allow data entry for all 12 quarters of the grant's period of performance. This allows applicants the flexibility to submit quarter and/or program year-specific goals and displays a final set of goals that encompass the grant's full three-year period of performance. Lastly, this form is now included as a separate tab in the VETS-704 Abstract and in the VETS-701 TPR. The Planned Goals Chart is completed once at application; the data is then pasted into the Planned Goals Chart

• VETS-701 Technical Performance Report (TPR). On the Planned Goals tab, VETS proposes grantees enter the goals shown on the VETS-700 Planned Goals Chart and add three entries for planned expenditures related to participant services, indirect costs, and direct costs. On the Tech Perf Report tab, VETS proposes removing the requirement to enter the number of eligibility assessments conducted each quarter as VETS no longer needs to collect this information. On the Participant Info tab, VETS proposes removing two services provided entries: Transitional or Permanent Housing and the Work Attire/Tools/Equipment; the former is a data point VETS no longer requires, and the latter is redundant with another service (Employment Adjustment Services) and will be incorporated into those selections. Continuing the Participant Info tab, VETS proposes replacing the free text Participant ID field with a form-generated, unique within the TPR-identification code based on existing participant data entries. VETS proposes to add service delivery area (SDA) fields to record the participant's state, county, city, and zip code of residence at the time of enrollment. This will allow VETS to map HVRP services at the county level and compare grantees' proposed service delivery areas to the locations of the participants being served. VETS intends to add an LGBTQIA+ field to ensure equity in services to lesbian, gay, bisexual, transgender, queer, intersex, and other sexual and gender-diverse communities. VETS intends to add a field to record a participant's military discharge status and modify the age at enrollment field to date of birth. VETS proposes to add fields to capture the number of training hours provided for each of the training type categories and modify the services last provided entries for each of the service type categories from a ninety-day selection window (quarters) to the date last provided. VETS intends to add occupation type selection fields to the placement, second quarter after exit, and fourth quarter after exit questions in the participant follow-up tracking section. Lastly, VETS has added a new tab titled, New Enrollment Entry; it serves as optional new enrollment data input form that assists in populating the Participant Info tab.

• VETS-702 Technical Performance Narrative (TPN). VETS proposes to remove the question pertaining to “Cumulative Percentage of Participants Receiving Training Services,” as the result of that measure will now be addressed in the existing failed and/or minimal performance narratives. VETS is also removing two financial review questions related to the status of the SF-425 as finalized for closeout. VETS proposes adding one additional question to the failed and minimal performance narratives that asks grant recipients to specify when an indicator's underperformance is related to a continuing issue from prior quarters and explain what remedies have been taken to address and improve performance over time. VETS has modified the Quarters 5-8 section of the TPN from one field that provided narrative explanations for both failed and minimal performance outcomes to two separate fields, with one text box dedicated to failed performance and one text box dedicated to minimal performance. The overall number of questions in the TPN remains unchanged.

• VETS-703 Stand Down After Action Review (SDARR). Currently, grant recipients have no way to explain why a required service for a Stand Down event as stated in the FOA was not available. By adding a comment box field to the form, grantees will be able to provide narrative justification regarding the services provided to Stand Down participants. This new field only applies if the grant recipient did not provide certain required services at the Stand Down event.

The Department's estimated burden total for the collection with the proposed changes are shown in the chart below. Overall, the proposed changes have increased the burden by two hours, from 11,004 to 11,006. The overall estimated number of respondents decreased by 186 from 1,078 to 892, specifically for the VETS-700, VETS-703, and VETS-704. The total estimated annual responses increased by two from 2,662 to 2,664. The average time burden by response increased for the VETS-701 and VETS-702 but decreased for the VETS-700 and VETS-703, with no changes to the VETS-704.

Estimated Annual Burden Hours
Type of Instrument (form/activity) | Number of respondents | Number of responses per respondent | Total number of responses | Average burden time per response (hours) | Estimated burden hours
VETS-700 Planned Goals | 116 | 1 | 116 | 1.0 | 116
VETS-701 TPR (Quarters 1-4; Year 1 Grantees) | 58 | 4 | 232 | 14.0 | 3,248
VETS-701 TPR (Quarters 1-4; Year 2 and Year 3 Grantees) | 117 | 4 | 468 | 7.0 | 3,276
VETS-701 TPR (Quarters 5-8; Year 1 Grantees) | 0 | 0 | 0 | 0 | 0
VETS-701 TPR (Quarters 5-8; Year 2 and Year 3 Grantees) | 117 | 4 | 468 | 2.0 | 936
VETS-702 TPN (Quarters 1-4; All Grantees Years 1-3) | 175 | 4 | 700 | 4.0 | 2,800
VETS-702 TPN (Quarters 5-8; Year 2 and Year 3 Grantees) | 117 | 4 | 468 | 1.0 | 468
VETS-703 SDARR | 30 | 1 | 30 | 0.75 | 23
VETS-704 Abstract | 116 | 1 | 116 | 1.0 | 116
VETS-705 Past Performance Chart | 46 | 1 | 46 | 0.5 | 23
Unduplicated Total | 892 | 28 | 2,644 | 4.2 | 11,006

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-VETS.

Type of Review: Revision.

Title of Collection: VETS' Competitive Grant Program Reporting.

Forms:

1. VETS-700, Competitive Grants (CG) Planned Goals Chart;

2. VETS-701, CG Technical Performance Report (TPR);

3. VETS-702, CG Technical Performance Narrative (TPN);

4. VETS-703, Stand Down After Action Report (SDAAR);

5. VETS-704, Abstract and;

6. VETS-705, Past Performance Chart.

OMB Control Number: 1293-0014

Affected Public: State, Local, and Tribal Governments; Private Sector—businesses or other for-profits and not-for-profit institutions.

Estimated Number of Respondents: 892.

Frequency: Varies.

Total Estimated Annual Responses: 2,644.

Estimated Average Time per Response: 4.2 hours.

Estimated Total Annual Burden Hours: 11,006 hours.

Total Estimated Annual Other Cost Burden: $0.

(Authority: 44 U.S.C. 3506(c)(2)(A)).

James D. Rodriguez,
Assistant Secretary, Veterans' Employment and Training Service, U.S. Department of Labor.

[FR Doc. 2022-27515 Filed 12-19-22; 8:45 am]

BILLING CODE 4510-79-P